OFFICE OF GOVERNMENT ETHICS

Potential Improvements to the OGE Form 278e (Executive Branch Personnel Public Financial Disclosure Report) and the OGE Form 450 (Executive Branch Confidential Financial Disclosure Report)

AGENCY: Office of Government Ethics (OGE).

ACTION: Notice of public meeting.

SUMMARY: The U.S. Office of Government Ethics (OGE) is hosting a public meeting to obtain input from interested parties regarding potential improvements to the OGE Form 278e and the OGE Form 450 as part of a form revision planning process that will precede the next requested renewal of these forms under the Paperwork Reduction Act. The next scheduled renewal is in 2024; however, OGE may decide to make changes earlier.

DATES:

Public Meeting Date: The public meeting will be held on January 19, 2023, from 11 a.m. to 12 p.m., eastern time.

Registration: By close of business on January 17, 2023.

Written Comment Period Dates: Written comments must be received by January 6, 2023. Information on how to register for this meeting and to submit a written comment may be found in the SUPPLEMENTARY INFORMATION section of this notice.

ADDRESSES: The public meeting will be held via Cisco Webex Meetings.

FOR FURTHER INFORMATION CONTACT: Jody Keegan; Program Analyst, General Counsel and Legal Policy Division, Office of Government Ethics, Suite 500, 1201 New York Avenue NW, Washington, DC 20005-3917; Telephone: (202) 482-9300; TTY: (800) 877-8339.

SUPPLEMENTARY INFORMATION: In accordance with the Paperwork Reduction Act of 1995, 44 U.S.C. 3501-3520, and the Ethics in Government Act (EIGA), 5 U.S.C. app. section 102, as amended, OGE is seeking feedback on the OGE Form 278e and the OGE Form 450. On July 13, 2022 and July 20, 2022, OGE held listening sessions to seek agency input on issues specifically related to potential language and formatting changes to the OGE Form 278e and the OGE Form 450. OGE is now inviting all interested members of the public to share ideas, provide information, and express concerns about potential changes to the forms. This meeting will both allow interested groups to hear and respond to the concerns of other affected persons and allow OGE to further develop its understanding of the views of various constituencies. The goal of these meetings is to exchange ideas rather than come to a consensus.

Commenters may make any suggestions that they believe will improve the OGE Form 278e or the OGE Form 450. However, the public financial disclosure requirements are dictated by the Ethics in Government Act (EIGA), 5 U.S.C. app. section 102, as amended, and OGE's regulations at 5 CFR part 2634. OGE will be unable to consider any suggested change that would require a statutory change or regulatory change in this form revision cycle. Additionally, when considering suggested changes, OGE will consider any potential cost burden, particularly if the change will require reprogramming of agency or Government-wide electronic filing systems. Generally, text changes within the instructions impose substantially fewer costs than changes to the look or order of the data entry grids. Commenters should consider and explain how the changes they are proposing provide concrete benefits, such as easier identification of potential conflicts of interest or ease of use of the forms.

To facilitate discussion at the public meeting, OGE welcomes input on issues related to suggested changes to the OGE Form 278e and the OGE Form 450 including, but not limited to, the following topics on which OGE has previously received comments:

Potential Areas for Comment on the OGE Form 278e

1. General information fields:

The OGE Form 278e includes certain general information fields on the first page, such as the filer's name and position. These fields are not specifically authorized in the controlling statutory and regulatory authorities but are deemed permissible because they are necessary to provide an adequate understanding and processing of the form and do not impose any undue privacy or data entry burdens on filers.

(a) Filer identification number:

OGE received a suggestion for assigning each filer an identification number that would stay with the individual in perpetuity. Commenters advocating for such an identification number are advised to include the specific benefits of the number and to address the competing costs, privacy, and burden concerns. Commenters who oppose this identification number should identify any privacy concerns, costs, or administrative burdens, or any other concerns.

(b) Type of appointment:

OGE received a comment requesting that the OGE Form 278e display information regarding a filer's type of appointment. (i.e., Career SES, Non-Career SES, Senate-confirmed Presidential appointees (PAS), Schedule C, Uniformed Services, Other). OGE is interested in views on whether the provision of this information on the face of the form would assist the public in understanding the filer's risk of potential conflicts without undue burden or privacy concerns.

2. Excepted Investment Fund (EIF) Field:

OGE is considering changing the EIF field. The EIF field currently contains three choices: Yes (the item is an asset with underlying portfolio holdings but the item qualifies as an excepted investment fund); No (the item is an asset with underlying portfolio holdings and the asset does not qualify as an excepted investment fund); and N/A (the item is a source of non-investment income or the item is an asset without underlying portfolio assets). OGE is considering providing just two choices for the EIF field: Yes (the item is an asset with underlying portfolio holdings but the item qualifies as an excepted investment fund); or No (the item is an asset with underlying portfolio holdings and the asset does not qualify as an excepted investment fund; or the item is a source of non-investment income; or the item is an asset without underlying portfolio assets). OGE is interested in views on whether such a change would make the form more understandable.

3. Definitions:

OGE received comments requesting clarification to the instructions concerning the EIF field. OGE is interested in views on specific text suggestions on how the definition of “excepted investment fund” might be improved in the instructions. OGE also seeks comments on whether the instructions to any part of the form should include additional definitions of key terms and whether there are specific terms that need further definition.

4. Examples:

The OGE Form 450 includes a page of examples to assist filers in completing the form. OGE is considering adding a similar list of examples to the OGE Form 278e. OGE is interested in views on whether there are specific topic areas for which an example would be particularly useful.

Potential Areas for Comment on the OGE Form 450

1. Form types:

OGE currently makes the OGE Form 450 available in three different form types: (1) a dynamic Adobe Acrobat PDF version that has an automated Add-Page button; (2) an accessible, 508-compliant Adobe Acrobat PDF version that lacks an automated Add-Page button; and (3) a dynamic Microsoft Excel version that has an automated Add-Page button. Unfortunately, OGE has been unable to find any contractor that is able to support the dynamic PDF version and it is becoming less and less stable. OGE is considering retiring the dynamic PDF version. Feedback is requested as to whether the dynamic PDF version should be retained, despite its technical limitations.

2. Definitions and examples:

The last page of the OGE Form 450 includes examples for each Part. OGE seeks comments on whether any of these examples should be revised or removed, what new examples would be of value for the average filer, and whether any new definitions should be added to the instructions.

Registration: Individuals wishing to attend the public meeting must register at https://dcnet.webex.com/weblink/register/rc97caed77fdf3f1ce2e2158480a47425. Meeting information will be provided at the time of registration.

Written Comments: You may submit comments in writing to OGE by use of the following methods:

Email: usoge@oge.gov. Include “OGE PRA Form 278e and OGE Form 450 Review” in the subject line.

Mail: Office of Government Ethics, Suite 500, 1201 New York Avenue NW, Washington, DC 20005-3917, Attention: “OGE PRA Form 278e and OGE Form 450 Review.”

Instructions: Comments may be posted on OGE's website, https://www.oge.gov. Sensitive personal information, such as account numbers or Social Security numbers, should not be included. Comments generally will not be edited to remove any identifying or contact information.

Approved: November 28, 2022.
Emory Rounds,
Director, U.S. Office of Government Ethics.

[FR Doc. 2022-26130 Filed 11-30-22; 8:45 am]

BILLING CODE 6345-03-P